DEPARTMENT OF COMMERCE

Technology Administration

National Medal of Technology 2001 Award Program

AGENCY: Technology Administration, U.S. Department of Commerce.

ACTION: Announcement of the National Medal of Technology 2001 Award Program.

SUMMARY: The Department of Commerce, Technology Administration (TA), is accepting nominations for its year 2001 National Medal of Technology Award Program.

Established by Congress in 1980, the President of the United States awards the National Medal of Technology annually to our nation's leading innovators. If you know of a candidate who has made an outstanding contribution in technology, send for a nomination packet now.

DATES: The deadline for submission of an application is December 15, 2000.

ADDRESSES: The 2001 Nomination Applications can be obtained from the National Medal of Technology Program Office, Technology Administration, U.S. Department of Commerce, 1401 Constitution Avenue, N.W., Room 4226, Washington, D.C. 20230. The packets are also available by visiting the NMT website at NMT@ta.doc.gov or by faxing the office at 202/501-8153.

FOR FURTHER INFORMATION CONTACT: Andrew J. Fowell, Acting Director, 202-482-5572.

SUPPLEMENTARY INFORMATION: The National Medal of Technology is the highest honor bestowed by the President of the United States to America's leading innovators. Enacted by Congress in 1980, the Medal of Technology was first awarded in 1985. The Medal is given annually to individuals, teams, or companies for accomplishments in the innovation, development, commercialization, and management of technology, as evidenced by the establishment of new or significantly improved products, processes, or services.

The primary purpose of the National Medal of Technology is to recognize technological innovators who have made lasting contributions to enhancing America's competitiveness and standard of living. The Medal highlights the national importance of fostering technological innovation based upon solid science, resulting in commercially successful products and services.

The Selection Process

A distinguished, independent committee representing both private and public sectors evaluates the merits of all candidates nominated through an open, competitive solicitation process. The U.S. Department of Commerce's Office of the Under Secretary for Technology is responsible for administrating the National Medal of Technology. Committee recommendations are forwarded to the Secretary of Commerce who then makes recommendations to the President for final decision.

The Awards Presentation

Each year the National Medal of Technology awards are presented by the President in a joint White House ceremony with the National Medal of Science. (The National Medal of Science is administered by the National Science Foundation.) An award's dinner sponsored by the National Science and Technology Medals Foundation and other events are planned around the White House ceremony.

For over a decade, the Medal has celebrated the extraordinary achievements of American trailblazers, fostering a national legacy and inspiring future innovators. Of the 126 Medals of Technology awarded since 1985, 115 have been awarded to individuals or teams. Eleven has been awarded to companies.

Cheryl L. Shavers,
Under Secretary of Commerce for Technology, Technology Administration.

[FR Doc. 00-22008 Filed 8-28-00; 8:45 am]

BILLING CODE 3510-18-P